DEPARTMENT OF HEALTH AND HUMAN SERVICES

Centers for Disease Control and Prevention

[30DAY-15-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

1. National Vital Statistics Report Forms (0920-0213)—Revision—National Center for Health Statistics (NCHS). The compilation of national vital statistics dates back to the beginning of this century and has been conducted since 1960 by the Division of Vital Statistics of the National Center for Health Statistics, CDC. The collection of the data is authorized by 42 USC 242k. The National Vital Statistics Report (renamed from the Monthly Vital Statistics Report in January 1998) provides counts of monthly occurrences of births, deaths, infant deaths, marriages, and divorces following the end of each month. Similar data have been published since 1937 and are the sole source of these data at the national level. The data are used by the Department of Health and Human Services and by other government, academic, and private research organizations in tracking changes in trends of vital events.

Respondents for the Monthly Vital Statistics Report Form are registration officials in each State and Territiory, the District of Columbia, and New York City; in addition, 60 local (county) officials in New Mexico who record marriages occurring and divorces and annulments granted in each county of New Mexico will use this Form. There are no direct costs to respondents; the data are routinely available in each reporting office as a by-product of ongoing activities. Earlier OMB approvals of this data collection involved four separate forms, all of which are combined into a single multi-purpose form for this current approval request. The total annual burden hours are 418.

Respondents | Number of respondents | Responses/respondent | Avg. burden/response (in hrs.)
State and Territory Registration Officials | 57 | 12 | 0.2
New Mexico County Officials | 60 | 12 | 0.1

Dated: February 2, 2000.
Nancy Cheal,
Acting Associate Director for Policy, Planning and Evaluation, Centers for Disease Control and Prevention (CDC).

[FR Doc. 00-3059 Filed 2-9-00; 8:45 am]

BILLING CODE 4163-18-P